DEPARTMENT OF LABOR

Employment Standards Administration

Proposed Collection; Comment Request; Correction

ACTION: Correction.

SUMMARY: In Federal Register Volume 66, Number 244, beginning on page 65513 in the issue of Wednesday, December 19, 2001, under Current Actions, under Type of Review, make the following correction: On page 65514, Type of Review was previously listed as Extension. This should be changed to Type of Review: Revision.

Dated: January 29, 2002.
Patricia Vastano,
Deputy Director, Office of Management, Administration and Planning, Employment Standards Administration.

[FR Doc. 02-2496 Filed 1-31-02; 8:45 am]

BILLING CODE 4510-CM-M